DEPARTMENT OF DEFENSE

Department of the Army

Privacy Act of 1974; System of Records

AGENCY: Department of the Army, DoD.

ACTION: Notice to Amend a System of Records.

SUMMARY: The Department of the Army is amending a system of records notice in its existing inventory of records systems subject to the Privacy Act of 1974.

DATES: This proposed action will be effective without further notice on April 18, 2002 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: March 13, 2002.
L.M. Bynum,
Alternate OSD Federal Register Liaison Officer, Department of Defense.,

A0600-8 ARPC

System name:

Individual Ready, Standby, and Retired Reserve Personnel Information System (December 23, 1997, 62 FR 67055).

Changes:

* * * * *

Categories of individuals covered by the system:

Delete entry and replace with ‘Members of the U.S. Army Reserve in the categories of Individual Ready Reserve, Standby and Retired Reserve assigned to a reserve unit and not serving on extended active duty in an entitled reserve status.’

Categories of records in the system:

Delete entry and replace with ‘Military occupational specialty data; qualification records, application for appointments, voluntary reduction; award recommendations, academic reports; retirement points, transcripts of military records efficiency reports; change of name; birth certificates, citizenship statements and status; absence without leave and desertion records; FBI reports; transcripts of military records; waiver of disqualifications, efficiency appeals; promotions, reductions, recommendations, approvals and declinations, announcements, notifications, pay entitlements, and other military service data.’

Authority for maintenance of the system:

Delete entry and replace with ‘10 U.S.C. 3013, Secretary of the Army; Army Regulation 135-18, The Active Guard Reserve (AGR) Program; Army Regulation 135-91, Service Obligations, Methods of Fulfillment Participation Requirements and Enforcement Procedures; Army Regulation 135-100, Appointment of Commissioned and Warrant Officers of the Army; Army Regulation 135-133, Ready Reserve Screening Qualification Records System, and Change of Address Reports; Army Regulation 135-155, Promotion of Commissioned Officers and Warrant Officers other than General Officers; Army Regulation 135-75, Separation of Officers; Army Regulation 140-10, Assignments, Attachments, Details and Transfers; Army Regulation 140-111, U.S. Army Reserve Reenlistment Programs; Army Regulation 140-158, Enlisted Personnel Classification, Promotion and Reduction; Army Regulation 140-185, Training and Retirement Point Credits and Unit Level Strength Accounting Records; and E.O. 9397 (SSN).’

* * * * *

Storage:

Delete entry and replace with ‘Optical digital imagery, computer output microfiche, computer magnetic tapes and discs, selected data stored on platters, disc fiche and electronic storage media.’

* * * * *

Safeguards:

Delete entry and replace with ‘Records or maintained in secured buildings and are accessed only by authorized personnel who are trained and cleared for access, in the performance of their duties. Established procedures for the control of computer access are in place and periodically reviewed and updated to prevent unwarranted access.”

Retention and disposal:

Delete entry and replace with ‘Reserve component evaluations, reserve officer promotion eligibility rosters, reserve officer and enlisted centralized and semi-centralized selection board reporting files destroy after 2 years. Reserve enlisted promotion eligibility rosters destroy after 1 year. Reserve officer numerical promotion lists destroy upon separation of soldier or when superseded or obsolete. Active duty for special work files maintain until funds are disbursed or when no longer needed. Reserve officer nominations and confirmation files are permanent. Equivalent training authorization approvals maintain for 5 years then destroy. Reserve officer career management files are forwarded to the appropriate personnel section if, individual transfers within the Army Reserves, enters on active duty or the National Guard, upon final separation from the Army Reserves destroy.”

* * * * *

A0600-8 ARPC

System name:

Individual Ready, Standby, and Retired Reserve Personnel Information System.

System location:

U.S. Army Reserve Personnel Center, 1 Reserve Way, St. Louis, MO 63132-5200.

Categories of individuals covered by the system:

Members of the U.S. Army Reserve in the categories of Individual Ready Reserve, Standby and Retired Reserve assigned to a reserve unit and not serving on extended active duty in an entitled reserve status.

Categories of records in the system:

Military occupational specialty data; qualification records, application for appointments, voluntary reduction; award recommendations, academic reports; retirement points, transcripts of military records efficiency reports; change of name; birth certificates, citizenship statements and status; absence without leave and desertion records; FBI reports; transcripts of military records; waiver of disqualifications, efficiency appeals; promotions, reductions, recommendations, approvals and declinations, announcements, notifications, pay entitlements, and other military service data.

Authority for maintenance of the system:

10 U.S.C. 3013, Secretary of the Army; Army Regulation 135-18, The Active Guard Reserve (AGR) Program; Army Regulation 135-91, Service Obligations, Methods of Fulfillment Participation Requirements and Enforcement Procedures; Army Regulation 135-100, Appointment of Commissioned and Warrant Officers of the Army; Army Regulation 135-133, Ready Reserve Screening Qualification Records System, and Change of Address Reports; Army Regulation 135-155, Promotion of Commissioned Officers and Warrant Officers other than General Officers; Army Regulation 135-75, Separation of Officers; Army Regulation 140-10, Assignments, Attachments, Details and Transfers; Army Regulation 140-111, U.S. Army Reserve Reenlistment Programs; Army Regulation 140-158, Enlisted Personnel Classification, Promotion and Reduction; Army Regulation 140-185, Training and Retirement Point Credits and Unit Level Strength Accounting Records; and E.O. 9397 (SSN).

Purpose(s):

To maintain personnel data on members assigned to individual ready, standby, and retired Army Reserves; to select and order individuals to military active duty training, to identify personnel for promotion; to determine those not qualified for retention in the reserve forces; to issue annual statement of retirement credits; to select qualified members for potential assignment to active Army units and reserve component units in the event of mobilization.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Optical digital imagery, computer output microfiche, computer magnetic tapes and discs, selected data stored on platters, disc fiche and electronic storage media.

Retrievability:

By individual's name and Social Security Number.

Safeguards:

Records or maintained in secured buildings and are accessed only by authorized personnel who are trained and cleared for access, in the performance of their duties. Established procedures for the control of computer access are in place and periodically reviewed and updated to prevent unwarranted access.

Retention and disposal:

Reserve component evaluations, reserve officer promotion eligibility rosters, reserve officer and enlisted centralized and semi-centralized selection board reporting files destroy after 2 years. Reserve enlisted promotion eligibility rosters destroy after 1 year. Reserve officer numerical promotion lists destroy upon separation of soldier or when superseded or obsolete. Active duty for special work files maintain until funds are disbursed or when no longer needed. Reserve officer nominations and confirmation files are permanent. Equivalent training authorization approvals maintain for 5 years then destroy. Reserve officer career management files are forwarded to the appropriate personnel section if, individual transfers within the Army Reserves, enters on active duty or the National Guard, upon final separation from the Army Reserves destroy.

System manager(s) and address:

Commander, U.S. Army Reserve Personnel Center, 1 Reserve Way, St. Louis, MO 63132-5200.

Notification procedure:

Individuals seeking to determine whether information about themselves is contained in this system should address written inquiries to the Commander, U.S. Army Reserve Personnel Center, 1 Reserve Way, St. Louis, MO 63132-5200.

For verification purposes, individual should provide full name, Social Security Number, current address and telephone number, and signature.

Record access procedures:

Individuals seeking access to information about themselves contained in this system should address written inquiries to the Commander, U.S. Army Reserve Personnel Center, 1 Reserve Way, St. Louis, MO 63132-5200.

For verification purposes, individual should provide full name, Social Security Number, current address and telephone number, and signature.

Contesting record procedures:

The Army's rules for accessing records, and for contesting contents and appealing initial agency determinations are contained in Army Regulation 340-21; 32 CFR part 505; or may be obtained from the system manager.

Record source categories:

From the Official Military Personnel File and the Military Personnel Records Jacket.

Exemptions claimed for the system:

None.

[FR Doc. 02-6545 Filed 3-18-02; 8:45 am]

BILLING CODE 5001-08-P